DEPARTMENT OF THE INTERIOR

National Park Service

[NPS-WASO-NAGPRA-NPS0030812; PPWOCRADN0-PCU00RP14.R50000]

Notice of Inventory Completion: Texas Parks and Wildlife Department, Austin, TX

AGENCY: National Park Service, Interior.

ACTION: Notice.

SUMMARY: The Texas Parks and Wildlife Department has completed an inventory of human remains, in consultation with the appropriate Indian Tribes or Native Hawaiian organizations, and has determined that there is no cultural affiliation between the human remains and any present-day Indian Tribes or Native Hawaiian organizations. Representatives of any Indian Tribe or Native Hawaiian organization not identified in this notice that wish to request transfer of control of these human remains should submit a written request to the Texas Parks and Wildlife Department. If no additional requestors come forward, transfer of control of the human remains to the Indian Tribes or Native Hawaiian organizations stated in this notice may proceed.

DATES: Representatives of any Indian Tribe or Native Hawaiian organization not identified in this notice that wish to request transfer of control of these human remains should submit a written request with information in support of the request to the Texas Parks and Wildlife Department at the address in this notice by October 26, 2020.

ADDRESSES: Aina Dodge, Texas Parks and Wildlife Department, 4200 Smith School Road, Austin, TX 78744, telephone (512) 389-4876, email aina.dodge@tpwd.texas.gov.

SUPPLEMENTARY INFORMATION: Notice is here given in accordance with the Native American Graves Protection and Repatriation Act (NAGPRA), 25 U.S.C. 3003, of the completion of an inventory of human remains under the control of the Texas Parks and Wildlife Department, Austin, TX. The human remains were removed from Big Bend Ranch State Park, Presidio County, TX.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Texas Parks and Wildlife Department professional staff in consultation with representatives of the Apache Tribe of Oklahoma; Comanche Nation, Oklahoma; Kiowa Indian Tribe of Oklahoma; Mescalero Apache Tribe of the Mescalero Reservation, New Mexico; Tonkawa Tribe of Indians of Oklahoma; Wichita and Affiliated Tribes (Wichita, Keechi, Waco & Tawakonie), Oklahoma; and the Ysleta del Sur Pueblo (previously listed as Ysleta Del Sur Pueblo of Texas) (hereafter referred to as “The Tribes”).

History and Description of the Remains

In December 2012, human remains representing, at minimum, one individual were removed from Big Bend Ranch State Park in Presidio County, TX. In November 2012, a park visitor found that a human burial was eroding from a rock cairn located within the extreme eastern part of the park. Owing to their precarious position in a drainage, and their possible discovery by visitors, the human remains were removed by Texas Parks and Wildlife Department archeologists in December 2012. The burial, which was situated under a stone cairn, contained the remains of a female 27-34 years of age. No known individual was identified. No associated funerary objects are present.

Determinations Made by the Texas Parks and Wildlife Department

Officials of the Texas Parks and Wildlife Department have determined that:

• Pursuant to 25 U.S.C. 3001(9), the human remains described in this notice are Native American based on their geographical location and the presence of several craniofacial traits that are indicative of Native American populations;

• Pursuant to 25 U.S.C. 3001(9), the human remains described in this notice represent the physical remains of one individual of Native American ancestry.

• Pursuant to 25 U.S.C. 3001(2), a relationship of shared group identity cannot be reasonably traced between the Native American human remains and any present-day Indian Tribe.

• According to final judgments of the Indian Claims Commission or the Court of Federal Claims, the land from which the Native American human remains were removed is the aboriginal land of The Tribes.

• Pursuant to 43 CFR 10.11(c)(1), the disposition of the human remains may be to The Tribes.

Additional Requestors and Disposition

Representatives of any Indian Tribe or Native Hawaiian organization not identified in this notice that wish to request transfer of control of these human remains should submit a written request with information in support of the request to Aina Dodge, Texas Parks and Wildlife Department, 4200 Smith School Road, Austin, TX 78744, telephone (512) 389-4876, email aina.dodge@tpwd.texas.gov, by October 26, 2020. After that date, if no additional requestors have come forward, transfer of control of the human remains to The Tribes may proceed.

The Texas Parks and Wildlife Department is responsible for notifying The Tribes that this notice has been published.

Dated: August 24, 2020.
Melanie O'Brien,
Manager, National NAGPRA Program.

[FR Doc. 2020-21081 Filed 9-23-20; 8:45 am]

BILLING CODE 4312-52-P